GENERAL SERVICES ADMINISTRATION

[Notice-MA-2022-04; Docket No. 2022-0002; Sequence No. 7]

Federal Travel Regulation (FTR); Marking, Redacting, and Segregating Information When Reporting Travel Data

AGENCY: Office of Government-wide Policy (OGP), General Services Administration (GSA).

ACTION: Notice of GSA Bulletin FTR 23-02, marking, redacting, and segregating information when reporting travel data.

SUMMARY: GSA Bulletin FTR 23-02 clarifies the Freedom of Information Act (FOIA) requirement of Federal agencies to reasonably segregate (i.e., withhold) and release (i.e., disclose) only non-exempt information when reporting on the use of first class and business class transportation accommodations. Further, this bulletin advises that GSA posts first class and business class data reported to it to GSA's FOIA electronic reading room. Therefore, agencies along with their legal counsel must review their data for proper release determinations prior to reporting required data to GSA so as to ensure that protected information is not posted publicly.

DATES: Applicable: September 28, 2022.

FOR FURTHER INFORMATION CONTACT: For clarification of content, contact Mr. LaMan Dantzler, Office of Government-wide Policy, Office of Asset and Transportation Management, at travelpolicy@gsa.gov. Please cite Notice of GSA Bulletin FTR 23-02.

SUPPLEMENTAL INFORMATION: FTR §§ 300-70.100 through 103 establish the requirements for agencies to report annually on the use of first class and business class transportation by Government travelers on official business. FTR § 300-70.103 specifies that agencies are required to submit protected data in the aggregate (i.e., compiled). Pursuant to 5 U.S.C. 552(a)(2), GSA makes Government travel reports publicly available on its FOIA electronic reading room, which is accessible online at https://www.gsa.gov/reference/freedom-of-information-act-foia/electronic-reading-room.

GSA Bulletin FTR 23-02 can be viewed in its entirety at https://www.gsa.gov/ftrbulletins.

Krystal J. Brumfield,
Associate Administrator, Office of Government-wide Policy.

[FR Doc. 2022-20971 Filed 9-27-22; 8:45 am]

BILLING CODE 6820-14-P